DEPARTMENT OF HEALTH AND HUMAN SERVICES

Food and Drug Administration

[Docket No. FDA-2008-N-0043]

[FDA No. 225-08-8006]

Memorandum of Understanding Between the Food and Drug Administration and WebMD, LLC

AGENCY: Food and Drug Administration, HHS.

ACTION: Notice.

SUMMARY: The Food and Drug Administration (FDA) is providing notice of a memorandum of understanding (MOU) between FDA's Office of External Relations and WebMD, LLC. The purpose of the MOU is to extend the reach of FDA Consumer Health Information and to provide consumers with better information and timely content concerning public health and safety topics, including alerts of emerging safety issues and product recalls.

Specific elements of the MOU include the creation of an FDA/WebMD online resource on the WebMD.com site, which will feature editorial and visual FDA Consumer Health Information, and the inclusion of FDA Consumer Health Information in at least three issues per year of WebMD The Magazine.

An agency policy statement summarizing the criteria and processes for development of this type of collaboration is available on FDA's Web site at www.fda.gov/consumer/co_brandpolicy.html.

DATES: The agreement became effective October 10, 2008.

FOR FURTHER INFORMATION CONTACT:

Jason Brodsky, Director, Consumer Health Information Staff, Office of External Relations (HFI-40), Food and Drug Administration, 5600 Fishers Lane, Rockville, MD 20857, 301-827-6251

Nan Forte, Executive Vice President, WebMD, LLC, 111 8th Ave., 7th floor, New York, NY 10011, 212-624-3821

SUPPLEMENTARY INFORMATION: In accordance with 21 CFR 20.108(c), which states that all written agreements and MOUs between FDA and others shall be published in the Federal Register, the agency is publishing notice of this MOU.

Dated: November 18, 2008.
Jeffrey Shuren,
Associate Commissioner for Policy and Planning.

BILLING CODE 4160-01-S

[FR Doc. E8-28690 Filed 12-3-08; 8:45 am]

BILLING CODE 4160-01-C